NATIONAL SCIENCE FOUNDATION

Notice of Permit Applications Received Under the Antarctic Conservation Act of 1978 (Pub. L. 95-541)

AGENCY: National Science Foundation.

ACTION: Notice of Permit Modification Received under the Antarctic Conservation Act of 1978, Public Law 95-541.

SUMMARY: The National Science Foundation (NSF) is required to publish a notice of requests to modify permits issued to conduct activities regulated under the Antarctic Conservation Act of 1978. NSF has published regulations under the Antarctic Conservation Act at Title 45 part 670 of the Code of Federal Regulations. This is the required notice of a requested permit modification.

DATES: Interested parties are invited to submit written data, comments, or views with respect to this permit application by October 29, 2009. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Description of Permit Modification Requested: The Foundation issued a permit (2007-003) to Dr. Rennie S. Holt, Direct of the Antarctic Marine Living Resources Program, on December 26, 2006. Dr. Holt has retired and the permit is now under the name of the new Director, Dr. George Watters. The issued permit allows the applicant to conduct census surveys, attendance, diving, foraging, diet, age determination, pathology, and long term monitoring (tagging) of pennipeds and seabirds.

The applicant requests the following modifications to his permit to:

(1) Capture to instrument, tag (flipper and PIT), collect blood, vibrissae, muscle/blubber biopsy, milk (if lactating), DNA sample, weight and measure 30 adult and 30 juvenile Weddell seals.

(2) Increase the total allowable tagged Leopard seals from 20 to 40. To avoid capture and limit the amount of impact on individual seals, the applicant would opportunistically tag Leopard seals on a rear flipper without capture.

(3) The applicant would like to deploy up to 110 microprocessors attached to existing flipper tags. No additional takes requested as the GLS tags will be added while implementing other protocols permitted elsewhere in the permit. Tags will be recovered the following season.

(4) Increase the already permitted number of takes from 50 to 100 juvenile Antarctic Fur seals to replace lost tags.

(5) Increase the number takes of adult Antarctic Fur seals from 20 to 100 to collect DNA samples (2mm biopsy punch on the end of a jab stick (ski pole).

(6) PIT (Passive Integrated Transponders) tags will be placed subcutaneously between the tail and pelvis on the mid-line of each animal.

Location: Cape Shirreff and San Telmo Island, Livingston Island, South Shetland Islands.

Dates: October 1, 2009 to April 20, 2011.

Nadene G. Kennedy,
Permit Officer, Office of Polar Programs.

[FR Doc. E9-23379 Filed 9-28-09; 8:45 am]

BILLING CODE 7555-01-P